DEPARTMENT OF LABOR

Employment and Training Administration

[TA-W-62,413]

Simclar (North America), Inc.; Winterville, NC; Notice of Termination of Investigation

Pursuant to section 221 of the Trade Act of 1974, as amended, an investigation was initiated on November 6, 2007, in response to a worker petition filed by a company official on behalf of workers of Simclar (North America), Inc., Winterville, North Carolina.

The petitioner has requested that the petition be withdrawn. Consequently, the investigation has been terminated.

Signed at Washington, DC, this 16th day of November 2007.
Linda G. Poole,
Certifying Officer, Division of Trade Adjustment Assistance.

[FR Doc. E7-23379 Filed 11-30-07; 8:45 am]

BILLING CODE 4510-FN-P